DEPARTMENT OF LABOR

Office of the Secretary

Agency Information Collection Activities; Submission for OMB Review; Comment Request; Well-being Supplement to the American Time Use Survey

ACTION: Notice.

SUMMARY: The Department of Labor (DOL) is submitting the Bureau of Labor Statistics (BLS) sponsored information collection request (ICR) titled, “Well-being Supplement to the American Time Use Survey,” to the Office of Management and Budget (OMB) for review and approval for continued use in accordance with the Paperwork Reduction Act (PRA) of 1995 (44 U.S.C. 3501 et seq.).

DATES: Submit comments on or before June 7, 2013.

ADDRESSES: A copy of this ICR with applicable supporting documentation; including a description of the likely respondents, proposed frequency of response, and estimated total burden may be obtained free of charge from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-BLS, Office of Management and Budget, Room 10235, 725 17th Street NW., Washington, DC 20503, Fax: 202-395-6881 (this is not a toll-free number), email: OIRA_submission@omb.eop.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: The American Time Use Survey (ATUS) Well-being supplement includes questions about how people experience their time. For example, the supplement asks how happy and stressed the respondent was the day before and the degree to which they felt pain. The supplement also includes questions on general health and life satisfaction. Information collected in the Well-being module is published as a public use data set to facilitate research on numerous topics, such as how people experience time spent in different activities, times of social interaction, and pain; the relationship between health and time use; and the relationship between life satisfaction and point-in-time affective experiences. Sponsored by the National Institute of Aging (NIA) of the National Institutes of Health, the module is asked of all respondents immediately upon their completion of the ATUS. The Well-being module supports the BLS mission, by providing new insight into the ATUS data on time use and information specifically about workers' affective experiences. The data collection supports the NIA mission, by providing information about the health and well-being of older Americans.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1220-0182. The current approval is scheduled to expire on June 30, 2013; however, it should be noted that existing information collection requirements submitted to the OMB receive a month-to-month extension while they undergo review. For additional information, see the related notice published in the Federal Register on January 11, 2013 (78 FR 2446).

Interested parties are encouraged to send comments to the OMB, Office of Information and Regulatory Affairs at the address shown in the ADDRESSES section within 30 days of publication of this notice in the Federal Register. In order to help ensure appropriate consideration, comments should mention OMB Control Number 1220-0185. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-BLS.

Title of Collection: Well-being Supplement to the American Time Use Survey.

OMB Control Number: 1220-0185.

Affected Public: Individuals or households.

Total Estimated Number of Respondents: 12,800.

Total Estimated Number of Responses: 12,800.

Total Estimated Annual Burden Hours: 1,067.

Total Estimated Annual Other Costs Burden: $0.

Dated: May 1, 2013.
Michel Smyth,
Departmental Clearance Officer.

[FR Doc. 2013-10868 Filed 5-7-13; 8:45 am]

BILLING CODE 4510-24-P